DEPARTMENT OF LABOR

Office of the Secretary

Submission for OMB Review: Comment Request

September 19, 2007.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: John Kraemer, OMB Desk Officer for the Occupational Safety and Health Administration (OSHA), Office of Management and Budget, Room 10235, Washington, DC 20503, Telephone: 202-395-7316/Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of a previously approved collection.

Title: Application for Training Grant.

OMB Number: 1218-0020.

Affected Public: Private Sector: Not-for-profit institutions (grant applicants).

Estimated Number of Respondents: 184.

Estimated Total Burden Hours: 10,166.

Estimated Total Annual Costs Burden: $0.

Description: The application is submitted by non-profit organizations interested in obtaining OSHA training grants. The information collected in this application is used by OSHA to select organizations to receive funds.

Agency: Occupational Safety and Health Administration.

Type of Review: Extension without change of a previously approved collection.

Title: Welding, Cutting and Brazing (29 CFR Part 1910, Subpart Q).

OMB Number: 1218-0207.

Affected Public: Private Sector: Business or other for-profits.

Estimated Number of Respondents: 21,373.

Estimated Total Burden Hours: 5,994.

Estimated Total Annual Costs Burden: $0.

Description: 29 CFR § 1910.255(e) requires that a periodic inspection of resistance welding equipment be made by qualified maintenance personnel, and a certification record generated and maintained. The maintenance inspection ensures that welding equipment is in safe operating condition while the maintenance record provides evidence to employees and OSHA compliance officers that employers performed the required inspections.

Agency: Occupational Safety and Health Administration.

Type of Review: Extension without change of a previously approved collection.

Title: Rigging Equipment for Material Handling (29 CFR § 1926.251)(b)(1), (b)(6)(ii), (c)(15)(iii), (e)(1)(i), (ii), and (iii), and (f)(2)).

OMB Number: 1218-0233.

Affected Public: Private Sector: Business or other for-profits.

Estimated Number of Respondents: 132,737.

Estimated Total Burden Hours: 56,335.

Estimated Total Annual Costs Burden: $0.

Description: The information collection provisions of the 29 CFR 1926.251 specify affixing identification tags or marking on rigging equipment, developing and maintaining inspection records, and retaining proof-testing certificates. The purpose of each of these requirements is to prevent employees from using defective or deteriorated equipment, thereby reducing their risk of death or serious injury caused by equipment failure during material handling.

Agency: Occupational Safety and Health Administration.

Type of Review: Extension without change of a previously approved collection.

Title: Portable Fire Extinguishers (Annual Maintenance Certification Record) (29 CFR § 1910.157(e)(3)).

OMB Number: 1218-0238.

Affected Public: Private Sector: Business or other for-profits.

Estimated Number of Respondents: 138,038.

Estimated Total Burden Hours: 69,019.

Estimated Total Annual Costs Burden: $19,878,208.

Description: The Standard for Portable Fire Extinguishers at 29 CFR 1910.157(e)(3) specifies that employers must subject each portable fire extinguisher to an annual maintenance inspection and record the date of the inspection. In addition, this provision requires employers to retain the inspection record for one year after the last entry or for the life of the shell, whichever is less, and to make the record available to OSHA on request. This recordkeeping requirement assures employees and Agency compliance officers that portable fire extinguishers located in the workplace will operate normally in case of fire; in addition, this requirement provides evidence to OSHA compliance officers during an inspection that the employer performed the required maintenance checks on the portable fire extinguishers.

Darrin A. King,
Acting Departmental Clearance Officer.

[FR Doc. E7-18767 Filed 9-24-07; 8:45 am]

BILLING CODE 4510-26-P